DEPARTMENT OF HEALTH AND HUMAN SERVICES

Administration for Children and Families

Proposed Information Collection Activity; Supporting Youth To Be Successful in Life (SYSIL) Study—Extension With Proposed Revisions (Office of Management and Budget #: 0970-0574)

AGENCY: Office of Planning, Research, and Evaluation, Administration for Children and Families, Department of Health and Human Services.

ACTION: Request for public comments.

SUMMARY: The Administration for Children and Families (ACF) is requesting approval from the Office of Management and Budget (OMB) for an extension with proposed revisions of a currently approved information collection activity as part of the Supporting Youth to be Successful in Life (SYSIL) study (OMB #: 0970-0574; expiration date: 07/31/2024).

DATES: Comments due within 60 days of publication. In compliance with the requirements of section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: SYSIL builds evidence on how to decrease the risk of homelessness among youth and young adults with experience in the child welfare system by continuing work with an organization who conducted foundational work as part of the Youth At-Risk of Homelessness project (OMB Control Number: 0970-0445). SYSIL will provide important information to the field by designing and conducting a federally led evaluation of a comprehensive service model for youth at risk of homelessness.

The SYSIL evaluation includes an implementation study and an impact study, which will use a rigorous quasi-experimental design that includes a comparison group. This information collection request includes the baseline and follow-up survey instruments for the impact study (a single instrument administered three times), and discussion guides for interviews and focus groups for the implementation study. The data collected from the baseline and follow-up surveys will be used to describe the characteristics of the study sample of youth, develop models for estimating program impacts, and determine program effectiveness by comparing outcomes between youth in the treatment (youth receiving the Pathways program) and control groups. The study also collects updated contact information from youth at two points in time to assist in reaching youth to complete follow-up surveys. Data from the interviews and focus groups will provide a detailed understanding of program implementation. We are also conducting brief check-ins with program directors using a subset of questions from the interview guides to collect information on services provided at two additional points in time. The study also uses administrative data from the child welfare system, homelessness management information system, and program providers. Administrative data is being used in its existing format and does not impose any new information collection or recordkeeping requirements on respondents.

The purpose of the requested extension is to continue the ongoing data collection, which will provide information on focal youth outcomes and program implementation. We are also requesting revisions to the interview and focus group protocols, as well as an additional round of interviews and focus groups. The purpose of the proposed revision is to better understand their experiences in delivering and receiving services and gather information on topics not previously covered in the protocols.

Respondents: The baseline and follow-up surveys and contact update requests are administered to youth in the treatment group (youth receiving the Pathways program) and youth in the control group who consent to participate in the study. Interviews are conducted with program leadership and staff. Focus groups are conducted with a subset of youth who are participating in the study. Check-ins are conducted with program directors.

Annual Burden Estimates
Instrument | Number of respondents (total over request period) | Number of responses per respondent (total over request period) | Avg. burden per response (in hours) | Total burden (in hours) | Annual burden (in hours)
SYSIL Youth Survey—Baseline survey | 382 | 1 | .42 | 160.44 | 53
SYSIL Youth Survey—Follow-up survey 1 (6 months) | 466 | 1 | .42 | 195.72 | 65
SYSIL Youth Survey—Follow-up survey 2 (12 months) | 501 | 1 | .42 | 210.42 | 70
Interview guide for Pathways sites (treatment sites) | 80 | 1 | 1.5 | 120 | 40
Program Director Check-ins for Pathways sites (treatment sites) | 45 | 1 | .5 | 22.5 | 8
Interview guide for comparison sites | 73 | 1 | 1.5 | 109.5 | 37
Program Director Check-ins for comparison sites | 30 | 1 | .5 | 15 | 5
Focus group discussion guide for Pathways youth (treatment youth) | 74 | 1 | 1.5 | 111 | 37
Focus group discussion guide for comparison youth | 73 | 1 | 1.5 | 109.5 | 37
Contact Information Update Requests | 313 | 2 | .08 | 50.08 | 17

Estimated Total Annual Burden Hours: 369.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 105(b)(5) of the Child Abuse Prevention and Treatment Act (CAPTA) of 1978 (42 U.S.C. 5106(b)(5)), as amended by the CAPTA Reauthorization Act of 2010 (Pub. L. 111-320).

Mary C. Jones,
ACF/OPRE Certifying Officer.

[FR Doc. 2024-07572 Filed 4-9-24; 8:45 am]

BILLING CODE 4184-29-P